DEPARTMENT OF AGRICULTURE

Forest Service

Yakutat Resource Advisory Committee

AGENCY: Forest Service, USDA.

ACTION: Notice of meeting.

SUMMARY: The Yakutat Resource Advisory Committee will meet in Yakutat, Alaska. The purpose of the meeting is to initiate the Yakutat Resource Advisory Committee. The committee was formed to carry out the requirements of the Secure Rural Schools and Self-Determination Act of 2000. The agenda for this initial meeting includes a discussion of how the Yakutat Resource Advisory Committee will operate, how often they will meet and how they will solicit project proposals.

DATES: The meeting will be held December 2, 2002, from 6-9 p.m.

ADDRESSES: The meeting will be held at the Kwaan Conference Room, 712 Ocean Cape Drive, Yakutat, Alaska. Send written comments to Tricia O'Connor, c/o Forest Service, USDA, P.O. Box 327, Yakutat, AK 99689, (907) 784-3359 or electronically to poconnor@fs.fed.us.

FOR FURTHER INFORMATION CONTACT: Tricia O'Connor, District Ranger and Designated Federal Official, Yakutat Ranger District, (907) 784-3359.

SUPPLEMENTARY INFORMATION: The meeting is open to the public. Council discussion is limited to Forest Service staff and Council members. However, persons who wish to bring resource projects or other Resource Advisory Committee matters to the attention of the Council may file written statements with the Council staff before or after the meeting. Public input sessions will be provided and individuals who made written requests by November 27, 2002 will have the opportunity to address the Council at those sessions.

Dated: November 12, 2002.
Fred S. Salinas,
Deputy Forest Supervisor Tongass National Forest.

[FR Doc. 02-29353 Filed 11-18-02; 8:45 am]

BILLING CODE 3410-11-M